DEPARTMENT OF HEALTH AND HUMAN SERVICES

Office of the Secretary

Findings of Scientific Misconduct

AGENCY: Office of the Secretary, HHS.

ACTION: Notice.

SUMMARY: Notice is hereby given that the Office of Research Integrity (ORI) and the Assistant Secretary for Health have taken final action in the following case:

David R. Jacoby, M.D., Ph.D., Harvard Medical School (HMS) and Massachusetts General Hospital (MGH): Based on the report of an investigation conducted by HMS and MGH and additional analysis carried out by ORI in its oversight review, the U.S. Public Health Service (PHS) found that Dr. Jacoby, former Instructor, Department of Neurology, MGH, engaged in 15 acts of scientific misconduct by plagiarizing and falsifying research data taken from another scientist's different experiment in a published journal article for use in a program project grant application submitted to, and funded by, the National Institutes of Health (NIH).

Specifically, Dr. Jacoby plagiarized an image of a Southern blot analysis of genomic DNA that appeared as Figure 3A in Balagué, C., Kalla, M., & Zhang, W.-W. “Adeno-Associated Virus Rep78 Protein and Terminal Repeats Enhance Integration of DNA Sequences into the Cellular Genome.” J. Virology 71:3299-3306, 1997. Dr. Jacoby first falsified the image by adding molecular weight markers and lane labels that misrepresented the image as his own experimental data. He further falsified the image using computer software to intensify a band he claimed was a site-specific integration and to remove identifiable background spots present in the original image. The effect of Dr. Jacoby's falsifications was to misrepresent the image as data from his own experimental analysis of clonal cell lines derived from the infection of a human cell line with a recombinant hybrid virus incorporating two transgenes and adeno-associated virus genes into a herpes simplex virus amplicon. Dr. Jacoby's falsified image was material to his research because it supported his claim that the transgene DNA had integrated into the cell genome at a specific site. These plagiarized and falsified results were reported in:

1. Appendix material supporting an application for a Program Project Grant, Molecular Etiology of Early Onset Torsion Dystonia, 1 P01 NS37409-01A1, submitted by Dr. Jacoby's supervisor; Dr. Jacoby's supervisor relied upon falsified written and oral information provided to her by Dr. Jacoby in her description of his recent research progress;

2. Three presentations by Dr. Jacoby's supervisor to colleagues at MGH in May 1998 regarding the status of the research in her laboratory; Dr. Jacoby's supervisor relied upon falsified written and oral information provided to her by Dr. Jacoby in her description of his recent research progress; and

3. A grant application to NIH for continuation of Dr. Jacoby's Clinical Investigator Award grant, 5 K08 NS01887-03, signed by Dr. Jacoby on May 29, 1998.

In addition, Dr. Jacoby subsequently altered the falsified image described above further by changing the location of the molecular weight markers to make it appear more consistent with the expected experimental results. Dr. Jacoby then submitted the plagiarized and falsified results to a MGH colleague who included them in a presentation at the First Annual Meeting of the American Society of Gene Therapy, held in Seattle, Washington, on May 30, 1998.

During the institutional investigation in 1998, Dr. Jacoby presented another falsified image as data from his own experiment. Specifically, he used computer software to scan Figure 3A in Balagué et al. and then alter the locations of three major bands in an effort to conceal the origin of the falsified image (i.e., Figure 3A) and to deceive investigating officials into believing that the results were from an independent experiment. Dr. Jacoby then used the different band locations as “evidence” of the differences between Figure 3A by Balagué et al. and the data purportedly from his own experiment by presenting the falsified image: (1) To the Chief of MGH's Neurology Service; (2) to a scientist assisting the Inquiry Committee by attempting to reproduce Dr. Jacoby's experiment; and (3) to the Inquiry Committee as data from his own independent experiment.

After the institution concluded that Dr. Jacoby had engaged in scientific misconduct, Dr. Jacoby forged the signature of the institutional official for the MGH Grants and Contracts Office and knowingly included false and material information on his NIH non-competing renewal application for a Clinical Investigator Award, 5 K08 NS01887-05. Specifically, after ceasing to work in his supervisor's laboratory and after being told by his supervisor that she would no longer serve as his mentor on the Clinical Investigator Award, Dr. Jacoby (1) listed his former supervisor as his mentor on his 5 K08 NS01887-05 application; (2) claimed that he was continuing to conduct grant-funded research in her laboratory; (3) forged the signature of the MGH institutional official to avoid detection by MGH; and then (4) submitted the completed application directly to NIH on or about August 1, 2000.

Dr. Jacoby's actions amount to significant and serious falsifications in the proposing and reporting of research. His falsifications gave NIH reviewers inaccurate information for their evaluation of the progress made by the research group at MGH in its PHS-supported research. His falsifications also substantially hindered the progress of the PHS-funded research project. Finally, his falsifications induced NIH to conditionally approve Dr. Jacoby's 5 K08 NS01887-05 grant at a time when he was no longer conducting research.

Accordingly, PHS further finds that Dr. Jacoby engaged in a pattern of dishonest conduct through the commission of 15 acts of data falsification and plagiarism, including additional steps taken to conceal the true nature and origin of the research data, that further demonstrates a lack of present responsibility to be a steward of Federal funds.

Dr. Jacoby has entered into a Voluntary Exclusion Agreement with PHS in which he has voluntarily agreed for a period of five (5) years, beginning on June 12, 2001:

(1) To exclude himself from any contracting or subcontracting with any agency of the United States Government and from eligibility for, or involvement in, nonprocurement transactions (e.g., grants and cooperative agreements) of the United States Government as defined in 45 C.F.R. Part 76 (Debarment Regulations);

(2) To exclude himself from serving in any advisory capacity to PHS, including but not limited to service on any PHS advisory committee, board, and/or peer review committee, or as a consultant.

FOR FURTHER INFORMATION CONTACT: Director, Division of Investigative Oversight, Office of Research Integrity, 5515 Security Lane, Suite 700, Rockville, MD 20852, (301) 443-5330.

Chris B. Pascal,
Director, Office of Research Integrity.

[FR Doc. 01-17150 Filed 7-9-01; 8:45 am]

BILLING CODE 4150-31-P